UNITED STATES INSTITUTE OF PEACE

Board of Directors Meeting

AGENCY: United States Institute of Peace.

ACTION: Notice.

SUMMARY: Board of Directors meeting.

DATES: Friday, April 25, 2014 (9 a.m.-4 p.m.).

ADDRESSES: 2301 Constitution Avenue NW., Washington, DC 20037.

FOR FURTHER INFORMATION CONTACT: Denson Staples, Board Liaison, Email: dstaples@usip.org.

SUPPLEMENTARY INFORMATION: Status: Open Session—Portions may be closed pursuant to Subsection (c) of Section 552(b) of Title 5, United States Code, as provided in subsection 1706(h)(3) of the United States Institute of Peace Act, Public Law 98-525.

Agenda: April 25, 2014 Board Meeting; Approval of Minutes of the One Hundred Fiftieth Meeting (January 24, 2014) of the Board of Directors; Chairman's Report; Vice Chairman's Report; Acting President's Report; Updates on Organizational Developments Since One Hundred Fiftieth Meeting; Learning & Evaluation; 30th Anniversary Plans; Governance, Law and Society Briefing; Board Executive Session; Other Organizational Topics.

Contact: Denson Staples, Board Liaison, Email: dstaples@usip.org.

Dated: March 28, 2014.
Michael B. Graham,
Senior Vice President for Management and Chief Financial Officer, United States Institute of Peace.

[FR Doc. 2014-07446 Filed 4-2-14; 8:45 am]

BILLING CODE P